DEPARTMENT OF ENERGY

Federal Energy Regulatory Commission

[Docket No. CP06-16-000]

Transcontinental Gas Pipe Line Corporation; Notice of Intent To Prepare an Environmental Assessment for the Proposed Station 50 Horsepower Replacement Project and Request for Comments on Environmental Issues

November 28, 2005.

The staff of the Federal Energy Regulatory Commission (FERC or Commission) will prepare an environmental assessment (EA) that will discuss the environmental impacts of the Station 50 Horsepower Replacement Project involving abandonment, construction, and operation of facilities by Transcontinental Gas Pipe Line Corporation (Transco) in Evangeline Parish, Louisiana.¹ These facilities would consist of (a) abandonment by removal of two 6,250-horsepower (hp) turbine/compressor units, and (b) installation of one 10,310-hp turbine/compressor unit. This EA will be used by the Commission in its decisionmaking process to determine whether the project is in the public convenience and necessity.

¹ Transco's application was filed with the Commission under section 7 of the Natural Gas Act and Part 157 of the Commission's regulations.

This notice announces the opening of the scoping period that will be used to gather environmental input from the public and interested agencies on the project. Please note that the scoping period will close on December 22, 2005.

This notice is being sent to potentially affected landowners; Federal, state, and local government agencies; elected officials; environmental and public interest groups; Native American Tribes; other interested parties; and local libraries and newspapers. State and local government representatives are asked to notify their constituents of this planned project and encourage them to comment on their areas of concern.

A fact sheet prepared by the FERC entitled “An Interstate Natural Gas Facility on My Land? What Do I Need to Know?” should have been attached to the project notice Transco provided to landowners. This fact sheet addresses a number of typically asked questions, including the use of eminent domain and how to participate in the Commission's proceedings. It also is available for viewing on the FERC Internet Web site (http://www.ferc.gov).

Summary of the Proposed Project

Transco is seeking authorization to improve the facilities at Compressor Station 50 in Evangeline Parish, Louisiana, by performing the following activities: (a) Abandonment by removal of two existing 6,520-hp turbine/compressor units, and (b) installation of one new 10,310-hp turbine/compressor unit. The old units, which Transco describes as obsolete and cumbersome to operate, would be removed as would the associated enclosures, building, equipment, piping, utilities, and controls. The new unit would be installed in a new building with associated interconnecting piping, equipment, utilities, and controls.

The location of the project facilities is shown in Appendix 1.²

² The appendix referenced in this notice is not being printed in the Federal Register. A copy of this notice is available on the Commission's website at the “eLibrary” link or from the Commission's Public Reference Room, 888 First St. NE., Washington, DC 20426, or call (202) 502-8371. For instructions on connecting to eLibrary refer to the end of this notice. Copies of the appendix were sent to all those receiving this notice in the mail.

Land Requirements for Construction

Transco states that all proposed activities associated with this project would occur within the boundaries of the existing Compressor Station 50 property. The facilities at this station are located within a fenced area of approximately 28 acres. No new land would be required for this project. The proposed new compressor building would be approximately 51 feet by 67 feet, and approximately 3.4 acres of the existing property would be affected by the installation activity. All land disturbed by construction that is not covered by the new compressor building will be returned to its current condition (grass).

Construction of the proposed facilities would require about 4.4 acres of land. No new pipeline rights-of-way, extra work/staging areas, access roads, or pipe/contractor yards would be required for the proposed project.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA, we ³ will discuss impacts that could occur as a result of the construction and operation of the proposed project. We will also evaluate possible alternatives to the proposed project or portions of the project, and make recommendations on how to lessen or avoid impacts on the various resource areas.

³ ”We,” “us,” and “our” refer to the environmental staff of the Office of Energy Projects (OEP).

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section.

Currently Identified Environmental Issues

We have already identified some issues that we think deserve attention based on a preliminary review of the proposed facilities and the environmental information provided by Transco. This preliminary list of issues may be changed based on your comments and our analysis.

• The revision of the Unanticipated Discovery Plan.

• Impacts on Air Quality and Noise.

Public Participation

You can make a difference by providing us with your specific comments or concerns about the project. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Magalie R. Salas, Secretary, Federal Energy Regulatory Commission, 888 First St. NE., Room 1A, Washington, DC 20426.

• Label one copy of the comments for the attention of Gas Branch 1.

• Reference Docket No. CP06-16-000.

• Mail your comments so that they will be received in Washington, DC on or before December 22, 2005.

We will include all comments that we receive within a reasonable time frame in our environmental analysis of this project. To expedite our receipt and consideration of your comments, the Commission strongly encourages electronic submission of any comments or interventions or protests to this proceeding. See Title 18 Code of Federal Regulations (CFR) 385.2001(a)(1)(iii) and the instructions on the Commission's Web site at http://www.ferc.gov under the “e-Filing” link and the link to the User's Guide. Before you can submit comments, you will need to create a free account which can be created on-line by clicking “Sign-up” under “New User.” You will be asked to select the type of submission you are making. This type of submission is considered a “Comment on Filing.”

We may mail the EA for comment. If you are interested in receiving it, please return the Information Request (Appendix 2). If you do not return the Information Request, you will be taken off the mailing list.

Becoming an Intervenor

In addition to involvement in the EA scoping process, you may want to become an official party to the proceeding, or “intervenor.” To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. To register for this service, go to the eSubscription link on the FERC Internet Web site.

Magalie R. Salas,
Secretary.

[FR Doc. E5-6934 Filed 12-6-05; 8:45 am]

BILLING CODE 6717-01-P